MERIT SYSTEMS PROTECTION BOARD

Membership of the Merit Systems Protection Board's Performance Review Board

AGENCY: Merit Systems Protection Board.

ACTION: Notice.

SUMMARY: Notice is hereby given of the members of the Merit Systems Protection Board's Performance Review Board.

DATES: March 24, 2017.

FOR FURTHER INFORMATION CONTACT: Pervis Lee at 202-254-4413 or pervis.lee@mspb.gov.

SUPPLEMENTARY INFORMATION: The Merit Systems Protection Board is publishing the names of the current and new members of its Performance Review Board (PRB) as required by 5 U.S.C. 4314(c)(4). Laura M. Albornoz, currently a member of the PRB, will serve as Chairman of the PRB. Michael Cushing of the Export-Import Bank and Louis Lopez of the Office of Special Counsel are new members of the PRB. Susan M. Swafford and William L. Boulden continue to serve as members of the PRB.

William D. Spencer,
Acting Chief Information Officer.

[FR Doc. 2017-05882 Filed 3-23-17; 8:45 am]

BILLING CODE 7400-01-P